DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

U.S. Patent Number 5,264,693, entitled “Microelectronic Photomultiplier Device with Integrated Circuitry”, issue date November 23, 1993. U.S. Patent Number 5,272,476, entitled “Data Acquisition System having novel, low power circuit for time-division-multiplexing sensor array signals”, issued December 21, 1993. U.S. Patent Number 5,276,695, entitled “Multifrequency, rapidly sequenced or simultaneous tunable laser”, issued January 4, 1994. U.S. Patent Number 5,285,467, entitled “Compact, efficient, scalable neodymium laser co-doped with activator ions and pumped by visible laser diodes”, issued February 8, 1994. U.S. Patent Number 5,306,904, entitled “Multilayer microelectronic photomultiplier device with a stacked series of dynode and insulating layers”, issued April 26, 1994. U.S. Patent Number 5,310,989, entitled “Method for laser-assisted etching of III-V and II-VI semiconductor compounds using chlorofluorocarbon ambients”, issued May 10, 1994. U.S. Patent Number 5,310,990, entitled “Method of laser processing ferroelectric materials”, issued May 10, 1994. U.S. Patent Number 5,736,950, entitled “Sigma-delta modulator with tunable signal passband”, issued April 7, 1998. U.S. Patent Number 5,737,347, entitled “Laser with multiple gain elements”, issued April 7, 1998. U.S. Patent Number 5,757,867, entitled “Digital mixing to baseband decimation filter”, issued May 26, 1998. U.S. Patent Number 5,760,722, entitled “Distributed quantization noise transmission zeros in cascaded sigma-delta modulators”, issued June 2, 1998. U.S. Patent Number 5,764,677, entitled “Laser diode power combiner”, issued June 9, 1998. U.S. Patent Number 6,342,866, entitled “Wideband antenna system”, issued January 29, 2002. U.S. Patent Number 6,404,038, entitled “Complementary vertical bipolar junction transistors fabricated of silicon-on-sapphire utilizing wide base PNP transistors”, issued June 11, 2002.

ADDRESSES: Requests for copies of the patents cited should be directed to the Space and Naval Warfare Center, San Diego, Office of Research and Technology Applications, Code 2112, 83570 Silvergate Ave, San Diego CA 92152-5048.

FOR FURTHER INFORMATION CONTACT: Dr. Stephen H. Lieberman, Office of Research and Technology Applications, Space and Naval Warfare Systems Center, San Diego, Code 2112, 83570 Silvergate Ave, Rm 2302, San Diego, CA 92152-5048, tel. 619-553-2778, E-Mail: stephen.lieberman@navy.mil.

Authority: 35 U.S.C. 207, 37 CFR part 404.

Dated: December 28, 2005.
Eric McDonald,
Lieutenant Commander, Judge Advocate General's Corps, U.S. Navy, Federal Register Liaison Officer.

[FR Doc. E6-58 Filed 1-6-06; 8:45 am]

BILLING CODE 3810-FF-P